DEPARTMENT OF AGRICULTURE

Animal and Plant Health Inspection Service

[Docket No. APHIS-2007-0113]

Fiscal Year 2008 Agricultural Quarantine and Inspection User Fees

AGENCY: Animal and Plant Health Inspection Service, USDA.

ACTION: Notice.

SUMMARY: This notice pertains to user fees charged for agricultural quarantine and inspection services provided in connection with certain commercial vessels, commercial trucks, commercial railroad cars, commercial aircraft, and international airline passengers arriving at ports in the customs territory of the United States. The purpose of this notice is to remind the public of the user fees for fiscal year 2008 (October 1, 2007, through September 30, 2008).

FOR FURTHER INFORMATION CONTACT: For information concerning AQI program operations, contact Mr. William E. Thomas, Director for Quarantine Policy, Analysis and Support, PPQ, APHIS, 4700 River Road Unit 60, Riverdale, MD 20737-1231; (301) 734-5214. For information concerning user fee rate development, contact Mrs. Kris Caraher, Section Head, User Fees Section, Financial Services Branch, FMD, MRPBS, APHIS, 4700 River Road Unit 54, Riverdale, MD 20737-1232, (301) 734-5901.

SUPPLEMENTARY INFORMATION: User fees to recover the costs of providing inspections of certain commercial conveyances are found in 7 CFR part 354 (referred to below as the regulations). These user fees are authorized by Section 2509(a) of the Food, Agriculture, Conservation and Trade Act of 1990, as amended (21 U.S.C. 136a), which authorizes the collection of user fees for agricultural quarantine and inspection (AQI) services.

In an interim rule published in the Federal Register on December 9, 2004 (69 FR 71660-71683, Docket No. 04-042-1), and effective January 1, 2005, we established, for fiscal years 2005 through 2010 and beyond, user fees for many of the types of conveyances or persons to whom AQI services are provided, i.e., commercial vessels (watercraft), commercial trucks, loaded commercial railroad cars, commercial aircraft, and international airline passengers. The regulations provide specific information regarding the applicability of, and exceptions to, AQI user fees. As specified in 7 CFR 354.3, the user fees for these AQI services for fiscal year 2008 are as follows:

Service | Unit | Amount
Inspection of commercial vessels of 100 net tons or more (see 7 CFR 354.3(b) | Per arrival ¹ | $492.00
Inspection of commercial trucks (see 7 CFR 354.3(c)) | Per arrival ² | 5.25
Inspection of commercial railroad cars (see 7 CFR 354.3(d)) | Per arrival ³ | 7.75
Inspection of commercial aircraft (see 7 CFR 354.3(e)) | Per arrival | 70.50
Inspection of international aircraft passengers (see 7 CFR 354.3(f)) | Per arrival | 5.00
¹ Not to exceed 15 payments in a calendar year (i.e., no additional fee will be charged for a 16th or subsequent arrival in a calendar year).
² A prepaid AQI permit valid for one calendar year may be obtained for an amount 20 times the AQI user fee for each arrival ($105 from October 1, 2007, through September 30, 2008).
³ The AQI user fee may be prepaid for all arrivals of a commercial railroad car during the calendar year for an amount 20 times the AQI user fee for each arrival ($155 from October 1, 2007, through September 30, 2008).

Done in Washington, DC, this 9th day of October 2007.
Kevin Shea,
Acting Administrator, Animal and Plant Health Inspection Service.

[FR Doc. E7-20224 Filed 10-12-07; 8:45 am]

BILLING CODE 3410-34-P